DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday, September 8, 2005 at the Lassen National Forest Supervisors Office, 2550 Riverside Drive, Susanville, California for a business meeting. The meeting is open to the public.

SUPPLEMENTARY INFORMATION: The business meeting on September 8 will begin at 9 a.m. The Committee will review and approve May meeting minutes and current agenda, have an overview of BLM Proposal on the Bizz Johnson Trail, Special Weed Action Team (SWAT) Proposal Update/Accomplishments, review monthly Monitoring Reports and discuss the development of an Annual Monitoring Report, Committee appointments, reappointments and elect a chair, announce the new grant cycle rollout & season meeting schedule. Time will also be set aside for public comments at the beginning and end of the meeting.

FOR FURTHER INFORMATION CONTACT: Designated Federal Official Robert Andrews at (530) 257-4188; or Public Affairs Officer, Heidi Perry, at (530) 252-6604.

Laurie Tippin,
Forest Supervisor.

[FR Doc. 05-17062 Filed 8-26-05; 8:45 am]

BILLING CODE 4310-55-M